DEPARTMENT OF THE TREASURY

Privacy Act; Systems of Records

AGENCY: Departmental Offices, Department of the Treasury.

ACTION: Notice of a new system of records.

SUMMARY: In accordance with the Privacy Act of 1974, as amended (Privacy Act), the Department of the Treasury (Treasury), Departmental Offices proposes to establish a new Treasury system of records entitled “Department of the Treasury, Departmental Offices DO .0197—Financial Assistance Programs” for information collected in connection with the administration of financial assistance programs by Treasury's Departmental Offices. This action is necessary to meet the requirements of the Privacy Act to publish in the Federal Register notice of the existence and character of the system of records maintained by Treasury.

DATES: Written comments must be received by March 6, 2026. This new system will be effective upon publication. The routine uses will be applicable on March 6, 2026 unless Treasury receives comments and determines that changes to the system of records notice are necessary.

ADDRESSES: Comments may be submitted by any of the following methods:

• Federal E-rulemaking Portal: https://www.regulations.gov. Follow the instructions for submitting comments. Electronic submission of comments allows the commenter maximum time to prepare and submit a comment and ensures timely receipt.

• Mail: U.S. Department of the Treasury, Attention: Ryan Law, Deputy Assistant Secretary for Privacy, Transparency, and Records, 1500 Pennsylvania Avenue NW, Washington, DC 20220.

Treasury encourages comments to be submitted via https://www.regulations.gov. All comments submitted, including attachments and other supporting material, will be made public, including any personally identifiable or confidential business information that is included in a comment. Therefore, commenters should submit only information that they wish to make publicly available. Commenters who wish to remain anonymous should not include identifying information in their comments.

FOR FURTHER INFORMATION CONTACT: For general questions and questions regarding privacy issues, please contact: Ryan Law, Deputy Assistant Secretary for Privacy, Transparency, and Records, Department of the Treasury, 1500 Pennsylvania Avenue NW, Washington, DC 20220; telephone: (202) 622-5710.

SUPPLEMENTARY INFORMATION: In accordance with the Privacy Act of 1974, 5 U.S.C. 552a, as amended (the Privacy Act), the Department of the Treasury (Treasury), Departmental Offices proposes to establish a new system of records entitled “Department of the Treasury, Departmental Offices .0197—Financial Assistance Programs” for information collected in connection with the administration of financial assistance programs by Treasury Departmental Offices. These programs include the Capital Projects Fund program, Emergency Rental Assistance programs, Homeowner Assistance Fund program, Local Assistance and Tribal Consistency Fund program, RESTORE Act programs (the Direct Component and Centers of Excellence Research Grants Program), Social Impact Partnership to Pay for Results Act program, State and Local Fiscal Recovery Funds program, and State Small Business Credit Initiative programs, as well as other such programs Treasury may administer.

This established system will be included in Treasury's inventory of record systems. Below is the description of the new system, “Department of the Treasury, Departmental Offices .0197—Financial Assistance Programs.”

In accordance with 5 U.S.C. 552a(r), Treasury has provided a report of this new system to OMB and to the U.S. Congress.

Dated: January 30, 2026.
George Apetse,
Acting Treasury Privacy Officer.

SYSTEM NAME AND NUMBER:

Department of the Treasury, DO .0197—Financial Assistance Programs.

SECURITY CLASSIFICATION:

Unclassified.

SYSTEM LOCATION:

Records are maintained at the Departmental Offices: 1500 Pennsylvania Avenue NW, Washington, DC 20220.

SYSTEM MANAGER(S):

a. Office of Capital Access, U.S. Department of the Treasury, 1500 Pennsylvania Avenue NW, Washington, DC 20220.

b. Office of Economic Policy, U.S. Department of the Treasury, 1500 Pennsylvania Avenue NW, Washington, DC 20220.

b. Chief Information Officer, U.S. Department of the Treasury, 1500 Pennsylvania Avenue NW, Washington, DC 20220.

AUTHORITY FOR MAINTENANCE OF THE SYSTEM:

44 U.S.C. 3101; 44 U.S.C. 3554; 12 U.S.C. 5701 et seq. (State Small Business Credit Initiative Programs); 15 U.S.C. 9058a, 9058c (Emergency Rental Assistance programs); 15 U.S.C. 9058d (Homeowner Assistance Fund program); 33 U.S.C. 1321 note (RESTORE Act programs); 42 U.S.C. 1397n et seq. (SIPPRA program); 42 U.S.C. 802-805 (State and Local Fiscal Recovery Funds programs, Capital Projects Fund program, and Local Assistance and Tribal Consistency Fund) program; E.O. 9397, as amended by E.O. 13478; and E.O. 14243.

PURPOSE(S) OF THE SYSTEM:

The purpose of this system is to collect information from recipients and other parties regarding implementation of the financial assistance programs administered by Treasury Departmental Offices. Treasury may use this information to evaluate compliance with program requirements, including compliance with applicable federal laws, regulations, and executive orders; to support other audit and program oversight activities; to identify potential waste, fraud, and abuse; and for research and statistical purposes.

CATEGORIES OF INDIVIDUALS COVERED BY THE SYSTEM:

This system covers individual beneficiaries of financial assistance programs administered by Treasury's Departmental Offices, including the Capital Projects Fund program, Emergency Rental Assistance programs, Homeowner Assistance Fund program, Local Assistance and Tribal Consistency Fund program, RESTORE Act programs (including the Direct Component and the Centers of Excellence Research Grants Program), the Social Impact Partnerships to Pay for Results Act program, the State and Local Fiscal Recovery Funds program, and the State Small Business Credit Initiative programs, as well as other similar programs that Treasury may administer. Beneficiaries are the ultimate persons or entities that receive the intended benefit of the federal assistance. The system covers both individual beneficiaries as well as individuals associated with small businesses, non-profits, or other entities that receive assistance such as individual owners or employees of such businesses, or other entities. The system also covers other individuals associated with these programs, including employees, agents, or representatives of recipients, subrecipients, and their contractors or vendors, who carry out or are otherwise involved in program activities. In addition, the system includes any other individuals whose information is received by Treasury Departmental Offices, either directly or indirectly, in the course of program administration, compliance, audit, oversight, or research and statistical activities. Recipients receive financial assistance directly from Treasury and may include: states, territories, tribal governments, territories, local governments, public authorities or instrumentalities, non-profits, for-profit businesses, and other entities. Subrecipients receive funding from a Treasury recipient (or pass-through entity) to carry out part of a federal program and have programmatic responsibility and may include non-profits, for-profit businesses, tribal governments, local governments, public authorities or instrumentalities, and other entities. Contractors or vendors are individuals or entities that provide goods or services to a recipient or subrecipient in support of a federal program, but do not carry out the federal program itself.

CATEGORIES OF RECORDS IN THE SYSTEM:

Records consist of information collected or otherwise maintained by program recipients, subrecipients, and their contractors, including but not limited to information collected by recipients, subrecipients, and their contractors for the purpose of determining applicant eligibility for assistance, administering such assistance, and conducting program oversight, audit, and compliance activities.

Records include application materials and supporting documentation submitted by individuals and entities applying for assistance from recipients and subrecipients as well as other information related to an individual's or entity's application for and receipt of such assistance. Records also include documentation regarding contracts entered into by recipients and subrecipients with contractors for activities undertaken using funds received from Treasury Departmental Offices financial assistance programs.

Information in such records may include, but is not limited to, the following information: full legal name; unique identifiers or application identification numbers assigned by the recipient, subrecipient or contractor; residential address and contact information; reported income and household financial information; self-attestations, certifications, and signatures; supporting documentation provided by applicants; amounts of assistance awarded or received; periods of assistance, including applicable dates; information about employees or owners of recipients, subrecipients, contractors, or business beneficiaries; and identifying, demographic, and financial information associated with the receipt of or entry into awards, grants, loans, contracts, investments, and other transactions, including Social Security numbers or taxpayer identification numbers.

Records in the system may include employment-related and financial data necessary to support eligibility determinations, payment processing, audit activities, and program integrity functions. Treasury would collect such information as necessary for program administration, reporting, audit, compliance, or research and statistical purposes.

RECORD SOURCE CATEGORIES:

The information contained in the system may be provided by recipients, subrecipients, and contractors that managed these programs on their behalf. Recipients include, but are not limited to, states, territories, local governments, Tribes, the freely associated states, and various non-profit and for-profit entities.

ROUTINE USES OF RECORDS MAINTAINED IN THE SYSTEM, INCLUDING CATEGORIES OF USERS AND PURPOSES OF SUCH USES:

In addition to those disclosures generally permitted under the Privacy Act of 1974, 5 U.S.C. 552a(b), records and/or information or portions thereof maintained as part of this system may be disclosed outside Treasury as a routine use pursuant to 5 U.S.C. 552a(b)(3) as follows:

(1) To the United States Department of Justice (“DOJ”), for the purpose of representing or providing legal advice to the Department in a proceeding before a court, adjudicative body, or other administrative body before which the Department is authorized to appear, when such proceeding involves:

(a) The Department or any component thereof;

(b) Any employee of the Department in his or her official capacity;

(c) Any employee of the Department in his or her individual capacity where DOJ or the Department has agreed to represent the employee; or

(d) The United States, when the Department determines that litigation is likely to affect the Department or any of its components; and the use of such records by the DOJ is deemed by the DOJ or the Department to be relevant and necessary to the litigation provided that the disclosure is compatible with the purpose for which records were collected.

(2) To Federal agencies, non-Federal entities (including States and local governments), their employees, and agents (including contractors, their agents or employees and employees or contractors of the agents); or contractors (including their employees or agents) with which the Department has a contract, service agreement, grant, cooperative agreement, or computer matching agreement for the purpose of: (1) identification, prevention, and recovery of improper payments; (2) identification and prevention of fraud, waste, and abuse in Federal programs administered by the Department, another Federal agency, or a non-Federal entity; or (3) establishing or verifying the eligibility of, or continuing compliance with statutory and regulatory requirements by, applicants for, recipients or beneficiaries of, participants in, or providers of services with respect to assistance or payments under Federal programs or recouping payments or recovering delinquent debts under such Federal programs;

(3) To contractors, grantees, experts, consultants, Federal agencies, and non-Federal entities, including, but not limited to, State and local governments and other research institutions or their parties, and entities and their agents with which the Department has a contract, service agreement, grant, cooperative agreement, or other agreement for the purposes of statistical analysis and research in support of program operations, management, performance monitoring, evaluation, risk management, and policy development, to otherwise support the Department's mission, or for other research and statistical purposes not otherwise prohibited by law or regulation.

(4) To appropriate Federal, State, local, or foreign agencies, or other public authority responsible for investigating or prosecuting the violations of or for enforcing or implementing a statute, rule, regulation, order, or license, where the disclosing agency becomes aware of an indication of a violation or potential violation of civil or criminal law or regulation;

(5) To a Federal, State, local, or other public authority maintaining civil, criminal or other relevant enforcement information or other pertinent information, which has requested information relevant to or necessary to the requesting agency's, bureau's, or authority's hiring or retention of an individual, or issuance of a security clearance, license, contract, grant, or other benefit;

(6) In a proceeding before a court, adjudicative body, or other administrative body before which the agency is authorized to appear when: (a) the agency, (b) or any component thereof, (c) any employee of the agency in his or her official capacity, (d) any employee of the agency in his or her individual capacity where the Department of Justice or the agency has agreed to represent the employee; or (e) the United States, when the agency determines that litigation is likely to affect the agency, is a party to litigation or has an interest in such litigation, and the use of such records by the agency is deemed to be relevant and necessary to the litigation or administrative proceeding and not otherwise privileged;

(7) To a Congressional office in response to an inquiry made at the request of the individual to whom the record pertains;

(8) To the news media in accordance with guidelines contained in 28 CFR 50.2 which pertain to an agency's functions relating to civil and criminal proceedings;

(9) To third parties during the course of an investigation to the extent necessary to obtain information pertinent to the investigation;

(10) To a public or professional licensing organization when such information indicates, either by itself or in combination with other information, a violation or potential violation of professional standards, or reflects on the moral, educational, or professional qualifications of an individual who is licensed or who is seeking to become licensed;

(11) To a contractor for the purpose of compiling, organizing, analyzing, programming, processing, or otherwise refining records subject to the same limitations applicable to U.S. Department of the Treasury officers and employees under the Privacy Act;

(12) To a court, magistrate, or administrative tribunal in the course of presenting evidence, including disclosures to opposing counsel or witnesses in the course of civil discovery, litigation, or settlement negotiations or in connection with criminal law proceedings or in response to a court order when Treasury determines that the disclosure is relevant and necessary;

(13) To other Federal agencies to effect salary or administrative offset for the purpose of collecting debts, except that addresses obtained from the Internal Revenue Service shall not be disclosed to other agencies;

(14) To disclose information to a consumer reporting agency, including mailing addresses obtained from the Internal Revenue Service, to obtain credit reports;

(15) To a debt collection agency, including mailing addresses obtained from the Internal Revenue Service, for debt collection services;

(16) To unions recognized as exclusive bargaining representatives under the Civil Service Reform Act of 1978, 5 U.S.C. 7111 and 7114, the Merit Systems Protection Board, arbitrators, the Federal Labor Relations Authority, and other parties responsible for the administration of the Federal labor-management program for the purpose of processing any corrective actions, or grievances, or conducting administrative hearings or appeals, or if needed in the performance of other authorized duties;

(17) To a public or professional auditing organization for the purpose of conducting financial audit and/or compliance audits;

(18) To a student participating in a Treasury student volunteer program, where such disclosure is necessary to support program functions of Treasury, and

(19) To appropriate agencies, entities, and person when (1) the Department of the Treasury suspects or has confirmed that there has been a breach of the system of records; (2) the Department of the Treasury has determined that as a result of the suspected or confirmed breach there is a risk of harm to individuals, the Department of the Treasury (including its information systems, programs, and operations), the Federal Government, or national security; and (3) the disclosure made to such agencies, entities, and persons is reasonably necessary to assist in connection with the Department of the Treasury's efforts to respond to the suspected or confirmed breach or to prevent, minimize, or remedy such harm.

(20) To another Federal agency or Federal entity, when the Department of the Treasury determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

(21) The National Archives and Records Administration for use in its records management inspections and its role as an Archivist under the authority of 44 U.S.C. 2904 and 2906.

POLICIES AND PRACTICES FOR STORAGE OF RECORDS:

Records in this system are stored electronically in secure facilities. Paper records (if they must be created/maintained) are stored in a locked drawer, behind a locked door, or at a secure offsite location.

POLICIES AND PRACTICES FOR RETRIEVAL OF RECORDS:

Records in this system may be retrieved, for authorized purposes, by name or another unique identifier.

POLICIES AND PRACTICES FOR RETENTION AND DISPOSAL OF RECORDS:

Records in this system will be maintained and disposed in accordance with National Archives and Records Administration retention schedules.

ADMINISTRATIVE, TECHNICAL, AND PHYSICAL SAFEGUARDS:

Records in this system are safeguarded in accordance with applicable laws and policies, including all applicable Treasury information systems security and access policies. Strict controls are imposed to minimize the risk of compromising the information that is being stored. Access to the records in this system is limited to those individuals who have appropriate permissions and a need to know for the performance of their official duties. User activity is recorded by the system for audit purposes. Electronic records are encrypted at rest and in transit. Records are maintained in buildings subject to 24-hour security.

RECORD ACCESS PROCEDURES:

See “Notification Procedures” below.

CONTESTING RECORD PROCEDURES:

See “Notification Procedures” below.

NOTIFICATION PROCEDURES:

Individuals seeking notification and access to any record contained in this system of records, or seeking to contest its content, may inquire in writing in accordance with instructions appearing at 31 CFR part 1, subpart C, appendix A. Requests for information and specific guidance on where to send requests for records may be addressed to: Privacy Act Request, DO, Director, FOIA and Transparency, Department of the Treasury, 1500 Pennsylvania Avenue NW, Washington, DC 20220.

EXEMPTIONS PROMULGATED FOR THE SYSTEM:

None.

HISTORY:

None.

[FR Doc. 2026-02234 Filed 2-3-26; 8:45 am]

BILLING CODE 4810-AK-P